DEPARTMENT OF HEALTH AND HUMAN SERVICES

Centers for Disease Control and Prevention

[60-Day-11-0765]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Daniel Holcomb, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Fellowship Management System, OMB No. 0920-0765 exp. 03/31/2014—Revision—Scientific Education and Professional Development Program Office (SEPDPO), Office of Surveillance, Epidemiology and Laboratory Services (OSELS), Centers for Disease Control and Prevention (CDC).

Background and Brief Description

SEPDPO requests an additional three years to continue CDC's use of the online Fellowship Management System (FMS) for its electronic application and directory processes that allow individuals to apply to fellowships online and tracks applicant and alumni information; and a revision that will allow public health agencies and organizations to submit fellowship assignment proposals electronically, using FMS.

The mission of SEPDPO is to provide leadership in public health training and education, and manage innovative, evidence-based programs to prepare the health workforce to meet public health challenges of the 21st century. Professionals in public health, epidemiology, medicine, economics, information science, veterinary medicine, nursing, public policy, and other related professions seek opportunities, through CDC fellowships, to broaden their knowledge, skills, and experience to improve the science and practice of public health. CDC fellows are assigned to state, tribal, local and territorial public health agencies; federal government agencies, including CDC, and HHS operational divisions, such as Indian Health Service; and to nongovernmental organizations, including academic institutions, tribal organizations, and private public health organizations.

FMS provides an efficient and effective way for processing fellowship application data, selecting qualified candidates, maintaining a current alumni database, documenting the impact of the fellowships on alumni careers, and generating reports. This proposed revision will provide a secure site within this existing electronic system for designated employees of public health agencies and organizations to submit fellowship assignment proposals electronically.

Designated employees of public health agencies or organizations will answer a standardized set of core questions within FMS about the proposed assignments, including the type of public health agency or organization submitting the proposal; proposed fellow activities, including training and opportunities for service and collaboration; and how the fellow will be supported, including the type and extent of mentorship and supervision the fellow will receive.

This revision enhances FMS to include a function that will result in a standardized process for submitting and reviewing host assignment proposals across fellowships. The electronic assignment proposal process that FMS provides optimizes the matching of qualified fellowship candidates with host sites and will result in an optimal fit between fellows and their assignments — ultimately leading to long-term employment and sustained public health capacity of state and local health departments and other non-federal public health agencies and organizations.

The annual burden table has been updated to reflect the number of respondents from nonfederal public health agencies or organizations that submit assignment proposals to host fellows. There is no cost to respondents other than their time.

Estimated Annualized Burden Hours*
Type of respondents | Number of respondents | Frequency of response | Average annualized burden per response (in hours) | Average total response burden in hours
Public Health Agency or Organization | 226 | 1 | 1.42 | 320
Fellowship applicants | 1122 | 1 | 40/60 | 748
Fellowship alumni* | 454 | 1 | 15/60 | 114
Total | 1802 |  |  | 1182
* Some alumni are deceased or cannot be located. Response burden assumes response from an individual responding alumnus, on average, every 3 years (which is likely an overestimate of frequency).

Dated:August 31, 2011.
Daniel Holcomb,
Reports Clearance Officer, Centers for Disease Control and Prevention.

[FR Doc. 2011-22795 Filed 9-6-11; 8:45 am]

BILLING CODE 4163-18-P